DEPARTMENT OF HEALTH AND HUMAN SERVICES

National Institutes of Health

National Institute on Drug Abuse Amended; Notice of Meeting

Notice is hereby given of a change in the meeting of the National Institute on Drug Abuse Special Emphasis Panel, August 28, 2014, 10:00 a.m. to August 28, 2014, 12:00 p.m., National Institutes of Health, Neuroscience Center, 6001 Executive Boulevard, Rockville, MD, 20852 which was published in the Federal Register on July 25, 2014, 79 144 FR 2014-17673.

The date of the meeting was changed to September 11, 2014. The meeting is closed to the public.

Dated: August 15, 2014.
Michelle Trout,
Program Analyst, Office of Federal Advisory Committee Policy.

[FR Doc. 2014-19788 Filed 8-20-14; 8:45 am]

BILLING CODE 4140-01-P